DEPARTMENT OF COMMERCE

International Trade Administration

[A-557-805]

Extruded Rubber Thread From Malaysia: Notice of Extension of Time Limits for Final Results of Antidumping Duty Administrative Review

AGENCY: Import Administration, International Trade Administration, Department of Commerce.

SUMMARY: The Department of Commerce is extending the time limits of the final results of the antidumping duty administrative review on extruded rubber thread from Malaysia. The review covers three producers/exporters of the subject merchandise to the United States. The period of review is October 1, 1999, through September 30, 2000.

EFFECTIVE DATE: December 19, 2001.

FOR FURTHER INFORMATION CONTACT: Irina Itkin or Elizabeth Eastwood, Office of AD/CVD Enforcement, Import Administration, International Trade Administration, U.S. Department of Commerce, at (202) 482-0656 or (202) 482-3874, respectively.

Postponement of Final Results of Administrative Review: The Department published the preliminary results of the 1999-2000 administrative review of the antidumping duty order on extruded rubber thread from Malaysia on November 6, 2001 (66 FR 56057). The current deadline for the final results in this review is March 6, 2002. We must conduct sales and cost verifications of the information provided by the respondents. Due to scheduling problems with one of the companies participating in this review, we are unable to complete verification before March 2002. Because we need additional time for verification, we have extended the deadline until May 6, 2002.

This extension is in accordance with section 751(a)(3)(A) of Tariff Act of 1930, as amended by the Uruguay Round Agreements Act, and 19 CFR 351.213(h)(2).

Dated: December 12, 2001.
Louis Apple,
Acting Deputy Assistant Secretary for Import Administration.

[FR Doc. 01-31256 Filed 12-18-01; 8:45 am]

BILLING CODE 3510-DS-P